DEPARTMENT OF DEFENSE

Corps of Engineers, Department of the Army

33 CFR Part 207

St. Marys Falls Canal and Locks, Michigan; Use, Administration and Navigation

AGENCY: U.S. Army Corps of Engineers, DoD.

ACTION: Notice of proposed rulemaking and request for comments.

SUMMARY: The Corps of Engineers proposes to amend its regulations on procedures to navigate the St. Marys Falls Canal and Soo Locks at Sault St. Marie, Michigan to incorporate changes in navigation safety procedures published in three Notice to Navigation Interests issued on March 29, 2000. We propose to remove reference to oil tankers having draft and beam permitting transit through the Canadian lock, since the Canadian lock no longer can handle oil tankers. We propose to prohibit the cleaning and gas freeing of tanks on all hazardous material cargo vessels while either in the lock or while in any part of the Soo Locks approach canals. As an additional vessel safety measure, we propose to limit movement to a single vessel whenever a tank vessel is within the limits of the lock piers either above or below the locks. We also propose to allow tankers with any type cargo to transit the MacArthur Lock when the locks park is closed, while tankers carrying non-combustible products will be allowed to transit the MacArthur Lock when the park is open. We propose to clarify that vessels carrying explosives are prohibited from transiting U.S. Locks.

DATES: Written comments must be received by March 9, 2001.

ADDRESSES: U.S. Army Corps of Engineers, ATTN: CECW-OD, 441 G Street, NW, Washington, DC 20314-1000. Comments may also be faxed to (202) 761-1685 or e-mail to James.D.Hilton@usace.army.mil.

FOR FURTHER INFORMATION CONTACT: Mr. Jim Hilton, Dredging and Operations Branch (CECW-OD) at (202) 761-4669 or Mr. David L. Dulong, Chief, Engineering Technical Services, Detroit District at (313) 226-6794.

SUPPLEMENTARY INFORMATION: Pursuant to its authority in Section 4 of the Rivers and Harbors Act of August 18, 1894 (28 Stat. 362; 33 U.S.C. 1), the Corps is proposing to amend the regulations in 33 CFR part 207.441(b), (4), and (5). The regulation governing the operation of the St. Marys Falls Canal and locks, 33 CFR 207.441 was adopted on March 6, 1954 (19 FR 1275) and has been amended at various times.

Paragraph (b) is being amended to delete reference to classes of vessels permitted to transit the U.S. locks or enter any of the United States approach canals. Paragraph (b)(4) is being further amended by deleting reference to oil tankers being permitted to transit through the Canadian lock, as the Canadian lock has been refurbished and can no longer accommodate oil tankers. In addition, paragraph (b)(4) is amended by deleting reference to personnel smoking onboard tankers while in the lock area, as prohibiting smoking is included in 33 CFR 207.440(s). Paragraph (b)(4) is being amended and rewritten to improve vessel safety by adding subparagraphs(b)(4) (i), (ii), and (iii). Subparagraph (b)(4)(i) prohibits the cleaning and gas freeing of tanks on all hazardous material cargo vessels (as defined in 49 CFR part 171), while the vessel is either in the lock or in any part of the Soo Locks approach canals from the outer end of the east center pier to the outer end of the southwest pier. Sub paragraph (b)(4) (ii) is being added for safety purposes to limit vessel movement to a single vessel whenever a tank vessel carrying hazardous cargo is within the limits of the lock piers either above or below the locks. Subparagraph (b)(4)(iii) is being added to allow tankers carrying any type of cargo to transit MacArthur Lock when the locks park is closed. Tankers carrying non-combustible products that will not react hazardously with water will be allowed to transit MacArthur Lock when the park is open.

Paragraph (b) (5) is being amended to add a phrase to clarify that vessels carrying explosives are prohibited from transiting the U.S. Locks.

This proposed rule is not a major rule for the purposes of Executive Order 12866. As required by the Regulatory Flexibility Act, the Corps of Engineers certifies that this proposed rule will not have a significant impact on small business entities.

List of Subjects in 33 CFR Part 207

Navigation (water), Water transportation, Vessels.

For reasons set out in the preamble, Title 33, Chapter II of the Code of Federal Regulations is proposed to be amended as follows:

PART 207—NAVIGATION REGULATIONS

1. The authority citation for part 207 continues to read as follows:

Authority: 28 Stat. 362 (33 U.S.C. 1)

2. Section 207.441 is amended by revising paragraphs (b) introductory text, (b)(4) and (b)(5) to read as follows:

§ 207.441 St. Marys Falls Canal and Locks, Mich.; security.

* * * * *

(b) Restrictions on transit of vessels.

* * * * *

(4) Tanker vessels—(i) Hazardous material. Cleaning and gas freeing of tanks on all hazardous material cargo vessels (as defined in 49 CFR part 171) shall not take place in a lock or any part of the Soo Locks approach canals from the outer end of the east center pier to the outer end of the southwest pier.

(ii) Approaching. Whenever a tank vessel is approaching the Soo Locks and within the limits of the lock piers (outer ends of the southwest and east center piers) either above or below the locks, no other vessel will be released from the locks in the direction of the approaching tank vessel until the tank vessel is within the lock chamber or securely moored to the approach pier. Whenever a tank vessel is within a Soo Lock Chamber, the tank vessel will not be released from the lock until the channel within the limits of the lock piers either above or below the lock, in the direction of the tank vessel, is clear of vessels or vessels therein are securely moored to the approach pier. This limits movement to a single vessel whenever a tank vessel is within the limits of the lock piers either above or below the locks. Tank vessels to which the above applies include those vessels carrying fuel oil, gasoline, crude oil or other flammable liquids in bulk, including vessels that are not gas free where the previous cargo was one of these liquids.

(iii) Lock parks. Except as provided in paragraph (b)(5) of this section, tankers with any type cargo will be permitted to transit the MacArthur Lock when the locks park is closed. The exact dates and times that the park is closed varies, but generally these periods are from midnight to 6:00 a.m. June through September with one or two hour closure extensions in the early and late seasons. Tankers carrying non-combustible products that will not react hazardously with water or tankers that have been purged of gas or hazardous fumes will be allowed to transit the MacArthur Lock when the park is open.

(5) All vessels carrying explosives are prohibited from transiting the U.S. Locks.

* * * * *

Dated: January 4, 2001.
Approved.
Alfred H. Foxx,
Colonel, U.S. Army Executive Director for Civil Works.

[FR Doc. 01-1752 Filed 1-22-01; 8:45 am]

BILLING CODE 3710-NL-P